DEPARTMENT OF DEFENSE

GENERAL SERVICES ADMINISTRATION

NATIONAL AERONAUTICS AND SPACE ADMINISTRATION

[OMB Control No. 9000-0155; Docket 2014-0055; Sequence 12]

Information Collection; Prohibition on Acquisition of Products Produced by Forced or Indentured Child Labor

AGENCY: Department of Defense (DOD), General Services Administration (GSA), and National Aeronautics and Space Administration (NASA).

ACTION: Notice of request for public comments regarding an extension to an existing OMB clearance.

SUMMARY: Under the provisions of the Paperwork Reduction Act (44 U.S.C. chapter 35), the Regulatory Secretariat Division (MVCB) will be submitting to the Office of Management and Budget (OMB) a request to review and approve an extension of a previously approved information collection requirement regarding prohibition on acquisition of products produced by forced or indentured child labor.

DATES: Submit comments on or before: September 8, 2014.

ADDRESSES: Submit comments identified by Information Collection 9000-0155, Prohibition on Acquisition of Products Produced by Forced or Indentured Child Labor, by any of the following methods:

• Regulations.gov: http://www.regulations.gov. Submit comments via the Federal eRulemaking portal by searching the OMB control number 9000-0155. Select the link “Comment Now” that corresponds with “Information Collection 9000-0155, Prohibition on Acquisition of Products Produced by Forced or Indentured Child Labor”. Follow the instructions provided on the screen. Please include your name, company name (if any), and “Information Collection 9000-0155, Prohibition on Acquisition of Products Produced by Forced or Indentured Child Labor” on your attached document.

• Fax: 202-501-4067.

• Mail: General Services Administration, Regulatory Secretariat Division (MVCB), 1800 F Street NW., Washington, DC 20405. ATTN: Ms. Hada Flowers/IC 9000-0155, Prohibition on Acquisition of Products Produced by Forced or Indentured Child Labor.

Instructions: Please submit comments only and cite Information Collection 9000-0155, Prohibition on Acquisition of Products Produced by Forced or Indentured Child Labor, in all correspondence related to this collection. All comments received will be posted without change to http://www.regulations.gov, including any personal and/or business confidential information provided.

FOR FURTHER INFORMATION CONTACT: Mr. Michael O. Jackson, Procurement Analyst, Acquisition Policy Division, GSA 202-208-4949 or email michaelo.jackson@gsa.gov.

SUPPLEMENTARY INFORMATION:

A. Purpose

This information collection complies with Executive Order 13126, Prohibition on Acquisition of Products Produced by Forced or Indentured Child Labor. Executive Order 13126 requires that this prohibition be enforced within the federal acquisition system by means of: (1) A provision that requires the contractor to certify to the contracting officer that the contractor or, in the case of an incorporated contractor, a responsible official of the contractor has made a good faith effort to determine whether forced or indentured child labor was used to mine, produce, or manufacture any product furnished under the contract and that, on the basis of those efforts, the contractor is unaware of any such use of child labor; and (2) A provision that obligates the contractor to cooperate fully in providing reasonable access to the contractor's records, documents, persons, or premises if reasonably requested by authorized officials of the contracting agency, the Department of the Treasury, or the Department of Justice, for the purpose of determining whether forced or indentured child labor was used to mine, produce, or manufacture any product furnished under the contract.

The information collection requirements of the Executive Order are evidenced via the certification requirements delineated at FAR 22.1505, 52.212-3, 52.222-18, and 52.222-19.

To eliminate some of the administrative burden on offerors who must submit the same information to various contracting offices, the Civilian Agency Acquisition Council and the Defense Acquisition Regulations Council (Councils) decided to amend the Federal Acquisition Regulation (FAR) to require offerors to submit representations and certifications electronically via the Business Partner Network (BPN), unless certain exceptions apply. Online Representations and Certifications Application (ORCA) was the specific application on the BPN to replace the paper based Representations and Certifications process. The change to the FAR was accomplished by FAR Case 2002-024. The BPN and ORCA systems have now been incorporated into the System for Award Management, also known as SAM.

B. Annual Reporting Burden

To date, there are 355,531 active registrants in SAM. Those registrants are required to complete the Representations and Certifications section of SAM. Of the 355,531 active registrants in SAM, 949 registrants identified their business concern as one that may supply an end product that is on the list of products requiring contractor certification as to Forced or Indentured Child Labor, identified by their country of origin. The 949 registrants will be used as the basis for the number of respondents. This number represents an increase from what was published in the Federal Register at 76 FR 42709 on July 19, 2011. No public comments were received in prior years that have challenged the validity of the Government's estimate.

Respondents: 949.

Responses per Respondent: 1.

Hours per Response: 0.325.

Total Burden Hours: 308.

Obtaining Copies of Proposals: Requesters may obtain a copy of the information collection documents from the General Services Administration, Regulatory Secretariat Division (MVCB), 1800 F Street NW., Washington, DC 20405, telephone 202-501-4755.

Please cite OMB Control No. 9000-0155, Prohibition on Acquisition of Products Produced by Forced or Indentured Child Labor, in all correspondence.

Dated: July 2, 2014.
Karlos Morgan,
Acting Director, Federal Acquisition Policy Division, Office of Government-Wide Acquisition Policy, Office of Acquisition Policy, Office of Government-Wide Policy.

[FR Doc. 2014-16081 Filed 7-8-14; 8:45 am]

BILLING CODE 6820-EP-P